DEPARTMENT OF TRANSPORTATION

Surface Transportation Board

[STB Finance Docket No. 34695]

Hainesport Industrial Railroad, LLC—Acquisition and Operation Exemption—Hainesport Industrial Park Railroad Association, Inc.

Hainesport Industrial Railroad, LLC (HIR), a noncarrier, has filed a verified notice of exemption under 49 CFR 1150.31 to acquire and operate approximately 1 mile of rail line owned by Hainesport Industrial Park Railroad Association, Inc. in Burlington County, NJ. The line is located within the Hainesport Industrial Park in the township of Hainesport, and connects with Consolidated Rail Corporation at milepost 12.6 in the South Jersey Conrail Shared Assets Area.

HIR certifies that its projected revenues will not exceed those that would quality it as a Class III rail carrier, and that its annual revenues will not exceed $5 million.

The transaction was expected to be consummated on or after April 28, 2005.

If the notice contains false or misleading information, the exemption is void ab initio. Petitions to revoke the exemption under 49 U.S.C. 10502(d) may be filed at any time. The filing of a petition to revoke will not automatically stay the transaction.

An original and 10 copies of all pleadings, referring to STB Finance Docket No. 34695, must be filed with the Surface Transportation Board, 1925 K Street, NW., Washington, DC 20423-0001. In addition, one copy of each pleading must be served on Linda J. Morgan, 1201 Pennsylvania Avenue, NW., Washington, DC 20004.

Board decisions and notices are available on our Web site at http://www.stb.dot.gov.

Decided: May 10, 2005.
By the Board, David M. Konschnik, Director, Office of Proceedings.
Vernon A. Williams,
Secretary.

[FR Doc. 05-9738 Filed 5-17-05; 8:45 am]

BILLING CODE 4915-01-P